COMMITTEE FOR THE IMPLEMENTATION OF TEXTILE AGREEMENTS

Cancellation of Electronic Visa Information System (ELVIS) Requirements for Textiles and Textile Products Produced or Manufactured in The People's Republic of China and Exported on and after January 1, 2009

December 5, 2008.

AGENCY: Committee for the Implementation of Textile Agreements (CITA).

ACTION: Issuing a directive to the Commissioner, Bureau of Customs and Border Protection canceling all previous directives concerning ELVIS requirements for China.

EFFECTIVE DATE: January 1, 2009.

FOR FURTHER INFORMATION CONTACT: Ross Arnold, International Trade Specialist, Office of Textiles and Apparel, U.S. Department of Commerce, (202) 482-4212. For information on the quota status of this limit, refer to the Bureau of Customs and Border Protection website (http://www.cbp.gov), or call (202) 863-6560. For information on embargoes and quota re-openings, refer to the Office of Textiles and Apparel website at http://otexa.ita.doc.gov.

SUPPLEMENTARY INFORMATION:

Authority: Executive Order 11651 of March 3, 1972, as amended; Section 204 of the Agricultural Act of 1956, as amended (7 U.S.C. 1854).

This directive cancels the ELVIS requirement for goods exported from China on and after January 1, 2009. The ELVIS requirement and quota requirements will continue to remain in effect until further notice for goods exported from China prior to January 1, 2009, even if entered in 2009. This action is consistent with the terms of the bilateral agreement on textiles and apparel between the Governments of the United States of America and the People's Republic of China that was signed on November 8, 2005.

In the letter below, CITA is directing the Bureau of Customs and Border Protection to cancel all ELVIS requirements for goods exported from China on and after January 1, 2009.

Janet E. Heinzen,
Acting Chairman, Committee for the Implementation of Textile Agreements.

Committee for the Implementation of Textile Agreements

December 5, 2008.

Commissioner,

Bureau of Customs and Border Protection, Washington, D.C. 20229.

Dear Commissioner: This directive cancels all previous directives concerning requirements for ELVIS transmissions, issued to you by the Chairman, Committee for the Implementation of Textile Agreements, effective for goods exported from China on and after January 1, 2009.

However, the ELVIS requirement and quota requirements will continue to remain in effect until further notice for goods exported from China prior to January 1, 2009, even if entered in 2009.

The Committee for the Implementation of Textile Agreement has determined that this action falls within the foreign affairs exception to the rulemaking provisions of 5 U.S.C. 553(a)(1).

Sincerely,

Janet E. Heinzen,

Acting Chairman, Committee for the Implementation of Textile Agreements.

[FR Doc. E8-29211 Filed 12-9-08; 8:45 am]

BILLING CODE 3510-DS